ENVIRONMENTAL PROTECTION AGENCY

[FRL-9843-9]

Intent To Grant an Exclusive Patent License

AGENCY: Environmental Protection Agency (EPA).

ACTION: Notice of intent to grant an exclusive license.

SUMMARY: EPA hereby gives notice of its intent to grant an exclusive, royalty-bearing, revocable license to practice the invention described and claimed in the U.S. patent entitled PROCESS FOR THE BIODEGRADATION OF HYDROCARBONS AND ETHERS IN SUBSURFACE SOIL BY INTRODUCTION OF A SOLID OXYGEN SOURCE BY HYDRAULIC FRACTURING, filed as U.S. serial number 10/395,893 on March 25, 2003 and issued as U.S. Patent 7,252,986 on August 7, 2007 to Foremost Environmental Solutions, L.L.C. of Denver, Colorado.

DATES: Comments on this notice must be received by EPA at the address listed below by August 22, 2013.

FOR FURTHER INFORMATION CONTACT: Laura Scalise, Patent Attorney, Office of General Counsel (Mail Code 2377A), Environmental Protection Agency, Washington, DC 20460, telephone (202) 564-8303.

SUPPLEMENTARY INFORMATION: Pursuant to 35 U.S.C. 207 (Patents) and 37 CFR part 404 (U.S. Government patent licensing regulations), EPA hereby gives notice of its intent to grant an exclusive, royalty-bearing, revocable license to practice the invention described and claimed in the U.S. patent entitled PROCESS FOR THE BIODEGRADATION OF HYDROCARBONS AND ETHERS IN SUBSURFACE SOIL BY INTRODUCTION OF A SOLID OXYGEN SOURCE BY HYDRAULIC FRACTURING, filed as U.S. serial number 10/395,893 on March 25, 2003 and issued as U.S. Patent 7,252,986 on August 7, 2007 to Foremost Environmental Solutions, L.L.C. of Denver, Colorado.

The proposed exclusive license will contain appropriate terms, limitations, and conditions to be negotiated in accordance with 35 U.S.C. 209 and 37 CFR 404.5 and 404.7 of the U.S. Government patent licensing regulations.

EPA will negotiate the final terms and conditions and grant the exclusive license, unless within 15 days from the date of this notice EPA receives, at the address below, written objections to the grant, together with supporting documentation. The documentation from objecting parties having an interest in practicing the above patent should include an application for an exclusive or nonexclusive license with the information set forth in 37 CFR 404.8. The EPA Patent Attorney and other EPA officials will review all written responses and then make recommendations on a final decision to the Director or Deputy Director of the National Risk Management Research Laboratory who have been delegated the authority to issue patent licenses under EPA Delegation 1-55.

Dated: July 31, 2013.
Kevin Miller,
Acting Associate General Counsel, General Law Office.

[FR Doc. 2013-19075 Filed 8-6-13; 8:45 am]

BILLING CODE 6560-50-P